DEPARTMENT OF LABOR

Employment and Training Administration

[TA-W-56,365]

Glad Manufacturing; Cartersville, GA; Notice of Negative Determination Regarding Application for Reconsideration

By application of March 2, 2005, a petitioner requested administrative reconsideration of the Department's negative determination regarding eligibility for workers and former workers of the subject firm to apply for Alternative Trade Adjustment Assistance (ATAA).

The workers of Glad Manufacturing, Cartersville, Georgia were certified eligible to apply for Trade Adjustment Assistance (TAA) and denied to apply for ATAA on February 3, 2005. The denial notice was published in the Federal Register on March 9, 2005 (70 FR 11706).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The group eligibility criteria for the ATAA program that the Department must consider under Section 246 of the Trade Act are:

1. Whether a significant number of workers in the workers' firm are 50 years of age or older.

2. Whether the workers in the workers' firm possess skills that are not easily transferable.

3. The competitive conditions within the workers' industry (i.e., conditions within the industry are adverse).

The initial ATAA investigation determined that the skills of the subject worker group are easily transferable to other positions in the local area.

In the request for reconsideration, the petitioner alleges that the separated group of workers who are 50 years and older includes employees whose skills are very limited and not easily transferable to other positions.

The Department conducted additional investigation and contacted company official to determine workers' eligibility for ATAA. Based on the company official's statements it was revealed that there are several existing and new manufacturing facilities within the commuting area, which are in the process of hiring workers with skills similar to those possessed by the subject worker group. Consequently, the investigation confirmed that workers' skills are easily transferable to other companies.

Conclusion

After review of the application and investigative findings, I conclude that there has been no error or misinterpretation of the law or of the facts which would justify reconsideration of the Department of Labor's prior decision. Accordingly, the application is denied.

Signed at Washington, DC, this 22nd day of March, 2005.
Elliott S. Kushner,
Certifying Officer, Division of Trade Adjustment Assistance.

[FR Doc. E5-1526 Filed 4-4-05; 8:45 am]

BILLING CODE 4510-30-P